SECURITIES AND EXCHANGE COMMISSION

[Release No. 34-57173; File No. SR-BSE-2008-03]

Self-Regulatory Organizations; Boston Stock Exchange, Inc.; Notice of Filing and Immediate Effectiveness of Proposed Rule Change Extending the iShares® Russell 2000® Index Fund (IWM) Option Pilot Program Until March 1, 2008

January 18, 2008.

Pursuant to section 19(b)(1) of the Securities Exchange Act of 1934 (“Act”) ¹ and Rule 19b-4 thereunder,² notice is hereby given that on January 16, 2008, the Boston Stock Exchange, Inc. (“Exchange” or “BSE”) filed with the Securities and Exchange Commission (“Commission”) the proposed rule change as described in Items I and II below, which Items have been substantially prepared by the Exchange. The Exchange has designated this proposal as non-controversial under section 19(b)(3)(A)(iii) of the Act ³ and Rule 19b-4(f)(6) thereunder,⁴ which renders the proposed rule change effective upon filing with the Commission. The Commission is publishing this notice to solicit comments on the proposed rule change from interested persons.

¹ 5 U.S.C. 78s(b)(1).

² 17 CFR 240.19b-4.

³ 15 U.S.C. 78s(b)(3)(A)(iii).

⁴ 17 CFR 240.19b-4(f)(6).

I. Self-Regulatory Organization's Statement of the Terms of Substance of the Proposed Rule Change

The Exchange proposes to amend the rules of the Boston Options Exchange (“BOX”) to extend an existing pilot program that increases the position and exercise limits for options on the iShares Russell 2000 Index Fund (“IWM”) traded on BOX (“IWM Option Pilot Program”). The text of the rule proposal is available on the Exchange's Web site (http://www.bostonstock.com), at the offices of the Exchange, and at the Commission's Public Reference Room.

II. Self-Regulatory Organization's Statement of the Purpose of, and Statutory Basis for, the Proposed Rule Change

In its filing with the Commission, the Exchange included statements concerning the purpose of, and basis for, the proposed rule change and discussed any comments it received on the proposed rule change. The text of these statements may be examined at the places specified in Item IV below. The Exchange has prepared summaries, set forth in sections A, B, and C below, of the most significant aspects of such statements.

A. Self-Regulatory Organization's Statement of the Purpose of, and Statutory Basis for, the Proposed Rule Change

1. Purpose

The IWM Option Pilot Program provides for increased position and exercise limits for IWM options traded on BOX. Specifically, the IWM Option Pilot Program increased the position and exercise limits for IWM options from 250,000 contracts to 500,000 contracts.⁵ The purpose of the proposed rule change is to extend the IWM Option Pilot Program for an additional 43 day period, through March 1, 2008.⁶ The Exchange believes that extending the IWM Option Pilot Program is warranted because maintaining the increased position and exercise limits for IWM options will lead to a more liquid and more competitive market environment for IWM options that will benefit customers interested in this product. The Exchange has received positive feedback from Participants, who have expressed a desire that the IWM Option Pilot Program be renewed.

⁵ See Securities Exchange Act Release No. 55171 (January 25, 2007) 72 FR 4549 (January 31, 2007) (SR-BSE-2007-03) (establishing the IWM Option Pilot Program).

⁶ See Securities Exchange Act Release No. 56051 (July 12, 2007) 72 FR 39469 (July 18, 2007) (SR-BSE-2007-30) (extending the IWM Option Pilot Program through January 18, 2008).

The Exchange is not proposing any other changes to the IWM Option Pilot Program. The Exchange represents that it has not encountered any significant problems or difficulties relating to the IWM Option Pilot Program since its inception. The Exchange believes that the above stated reasons justify the IWM Option Pilot Program and requests that the Commission extend the IWM Option Pilot Program for the requested additional pilot period, through March 1, 2008.⁷

⁷ Pursuant to Chapter III, Section 7 of BOX Rules, the exercise limit established for IWM options shall be equivalent to the position limit prescribed for IWM options in Supplementary Material .02 to such section. The increased exercise limits would only be in effect during the pilot period and the proposed extension of that pilot period through March 1, 2008.

2. Statutory Basis

The Exchange believes that the proposed rule change is consistent with section 6(b) of the Act ⁸ in general and furthers the objectives of section 6(b)(5) of the Act ⁹ because it is designed to promote just and equitable principles of trade, to prevent fraudulent and manipulative acts and practices, and, in general, to protect investors and the public interest.

⁸ 15 U.S.C. 78f(b).

⁹ 15 U.S.C. 78f(b)(5).

B. Self-Regulatory Organization's Statement on Burden on Competition

The Exchange does not believe that the proposed rule change will impose any burden on competition that is not necessary or appropriate in furtherance of the purposes of the Act.

C. Self-Regulatory Organization's Statement on Comments on the Proposed Rule Change Received From Members, Participants or Others

The Exchange has neither solicited nor received comments on the proposed rule change.

III. Date of Effectiveness of the Proposed Rule Change and Timing for Commission Action

The Exchange has designated the proposed rule change as one that: (1) Does not significantly affect the protection of investors or the public interest; (2) does not impose any significant burden on competition; and (3) does not become operative for 30 days from the date of filing, or such shorter time as the Commission may designate if consistent with the protection of investors and the public interest. Therefore, the foregoing rule change has become effective pursuant to section 19(b)(3)(A) of the Act ¹⁰ and subparagraph (f)(6) of Rule 19b-4 thereunder.¹¹ The Exchange has asked the Commission to waive the operative delay to permit the IWM Option Pilot Program extension to become effective prior to the 30th day after filing.

¹⁰ 15 U.S.C. 78s(b)(3)(A).

¹¹ 17 CFR 240.19b-4(f)(6). In addition, Rule 19b-4(f)(6)(iii) requires a self-regulatory organization to provide the Commission with written notice of its intent to file the proposed rule change, along with a brief description and text of the proposed rule change, at least five business days prior to the date of filing of the proposed rule change, or such shorter time as designated by the Commission. The Exchange has fulfilled this requirement.

The Commission believes that waiving the 30-day operative delay is consistent with the protection of investors and the public interest because it will allow the benefits of the IWM Option Pilot Program to continue without interruption.¹² Therefore, the Commission designates the proposal operative upon filing.

¹² For purposes only of waiving the 30-day operative delay, the Commission has considered the proposed rule's impact on efficiency, competition, and capital formation. See 15 U.S.C. 78c(f).

At any time within 60 days of the filing of the proposed rule change, the Commission may summarily abrogate the rule change if it appears to the Commission that such action is necessary or appropriate in the public interest, for the protection of investors, or otherwise in furtherance of the purposes of the Act.

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an e-mail to rule-comments@sec.gov. Please include File No. SR-BSE-2008-03 on the subject line.

Paper Comments

• Send paper comments in triplicate to Nancy M. Morris, Secretary, Securities and Exchange Commission, 100 F Street, NE., Washington, DC 20549-1090.

All submissions should refer to File Number SR-BSE-2008-03. This file number should be included on the subject line if e-mail is used. To help the Commission process and review your comments more efficiently, please use only one method. The Commission will post all comments on the Commissions Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room, 100 F Street, NE., Washington, DC 20549, on official business days between the hours of 10 a.m. and 3 p.m. Copies of such filing also will be available for inspection and copying at the principal office of the Exchange. All comments received will be posted without change; the Commission does not edit personal identifying information from submissions. You should submit only information that you wish to make available publicly. All submissions should refer to File Number SR-BSE-2008-03 and should be submitted on or before February 15, 2008.

For the Commission, by the Division of Trading and Markets, pursuant to delegated authority.¹³
¹³ 17 CFR 200.30-3(a)(12).
Nancy M. Morris,
Secretary.

[FR Doc. E8-1266 Filed 1-24-08; 8:45 am]

BILLING CODE 8011-01-P